DEPARTMENT OF ENERGY

Federal Energy Regulatory Commission

Combined Notice of Filings #1

Take notice that the Commission received the following electric corporate filings:

Docket Numbers: EC12-38-000.

Applicants: TPW Petersburg, LLC, Gestamp Eolica S.L.

Description: Application of TPW Petersburg, LLC and Gestamp Eolica S.L. for Authorization Pursuant to Section 203 of the Federal Power Act and Request for Confidential Treatment, Expedited Consideration and Waivers.

Filed Date: 11/21/11.

Accession Number: 20111121-5279.

Comments Due: 5 p.m. ET 12/12/11.

Take notice that the Commission received the following electric rate filings:

Docket Numbers: ER11-4674-001.

Applicants: Midwest Independent Transmission System Operator, Inc.

Description: Vectren-IMPA FCA Amendment to be effective 9/29/2011.

Filed Date: 11/21/11.

Accession Number: 20111121-5193.

Comments Due: 5 p.m. ET 12/12/11.

Docket Numbers: ER12-351-001.

Applicants: Midwest Independent Transmission System Operator, Inc.

Description: 11-21-11 MRES Attachment O, GG, and MM Amendment to be effective 1/1/2012.

Filed Date: 11/21/11.

Accession Number: 20111121-5234.

Comments Due: 5 p.m. ET 12/12/11.

Docket Numbers: ER12-447-000.

Applicants: Connecticut Central Energy, LLC.

Description: Connecticut Central Energy, LLC request to cancel its market-based rate tariff.

Filed Date: 11/21/11.

Accession Number: 20111121-5045.

Comments Due: 5 p.m. ET 12/12/11.

Docket Numbers: ER12-448-000.

Applicants: PJM Interconnection, L.L.C.

Description: Original Service Agreement No. 3145; Queue No. V4-006, V4-007, V4-030, V4-031 to be effective 10/20/2011.

Filed Date: 11/21/11.

Accession Number: 20111121-5079.

Comments Due: 5 p.m. ET 12/12/11.

Docket Numbers: ER12-449-000.

Applicants: PJM Interconnection, L.L.C.

Description: Original Service Agreement No. 3128; Queue No. W3-139 to be effective 10/24/2011.

Filed Date: 11/21/11.

Accession Number: 20111121-5096.

Comments Due: 5 p.m. ET 12/12/11.

Docket Numbers: ER12-450-000.

Applicants: Midwest Independent Transmission System Operator, Inc.

Description: 11-21-11 MVP Compliance to be effective 7/28/2010.

Filed Date: 11/21/11.

Accession Number: 20111121-5099.

Comments Due: 5 p.m. ET 12/12/11.

Docket Numbers: ER12-451-000.

Applicants: Midwest Independent Transmission System Operator, Inc.

Description: 11-21-11 Att FF & X_Option 1 Removal to be effective 3/22/2011.

Filed Date: 11/21/11.

Accession Number: 20111121-5107.

Comments Due: 5 p.m. ET 12/12/11.

Docket Numbers: ER12-452-000.

Applicants: Calpine Energy Services, L.P.

Description: Revision to Tariff for the Sale, Assignment, or Transfer of BPA Trans. Rights to be effective 11/22/2011.

Filed Date: 11/21/11.

Accession Number: 20111121-5163.

Comments Due: 5 p.m. ET 12/12/11.

Docket Numbers: ER12-453-000.

Applicants: Hermiston Power, LLC.

Description: Revision to Tariff for the Sale, Assignment, or Transfer of BPA Trans. Rights to be effective 11/22/2011.

Filed Date: 11/21/11.

Accession Number: 20111121-5164.

Comments Due: 5 p.m. ET 12/12/11.

Docket Numbers: ER12-454-000.

Applicants: ReEnergy Sterling CT Limited Partnership.

Description: ReEnergy Sterling Change in Seller Category Tariff Filing to be effective 11/21/2011.

Filed Date: 11/21/11.

Accession Number: 20111121-5211.

Comments Due: 5 p.m. ET 12/12/11.

Docket Numbers: ER12-455-000.

Applicants: Southwest Power Pool, Inc.

Description: Revisions to Grandfathering of Service and Rate Provisions Between SPS and PSCo to be effective 1/17/2012.

Filed Date: 11/21/11.

Accession Number: 20111121-5216.

Comments Due: 5 p.m. ET 12/12/11.

Docket Numbers: ER12-456-000.

Applicants: Lyonsdale Biomass LLC.

Description: Lyonsdale Biomass Change in Seller Category Tariff Filing to be effective 11/21/2011.

Filed Date: 11/21/11.

Accession Number: 20111121-5233.

Comments Due: 5 p.m. ET 12/12/11.

Docket Numbers: ER12-457-000.

Applicants: Southwest Power Pool, Inc.

Description: Compliance Filing in Order ER11-3627—Revisions to Attachment AE Section 4.4 to be effective 7/24/2011.

Filed Date: 11/21/11.

Accession Number: 20111121-5249.

Comments Due: 5 p.m. ET 12/12/11.

Docket Numbers: ER12-458-000.

Applicants: Quantum Choctaw Power, LLC.

Description: Quantum Choctaw Power, LLC to be effective 11/21/2011.

Filed Date: 11/21/11.

Accession Number: 20111121-5254.

Comments Due: 5 p.m. ET 12/12/11.

Docket Numbers: ER12-459-000.

Applicants: Sunoco Power Generation LLC.

Description: Eagle Point Rate Schedule to be effective 11/21/2011.

Filed Date: 11/21/11.

Accession Number: 20111121-5258.

Comments Due: 5 p.m. ET 12/12/11.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 22, 2011.
Nathaniel J. Davis, Sr.,
Deputy Secretary.

[FR Doc. 2011-31026 Filed 12-1-11; 8:45 am]

BILLING CODE 6717-01-P